INTERNATIONAL TRADE COMMISSION

Sunshine Act Meeting

TIME AND DATE: March 3, 2000 at 11 a.m.

PLACE: Room 101, 500 E Street SW, Washington, DC 20436; Telephone: (202) 205-2000.

STATUS: Open to the public.

MATTERS TO BE CONSIDERED:

1. Agenda for future meeting: none

2. Minutes

3. Ratification List

4. Inv. Nos. 701-TA-393 and 731-TA-829-830, 833-834, 836, and 838 (Final) (Certain Cold-Rolled Steel Products from Argentina, Brazil, Japan, Russia, South Africa, and Thailand)—briefing and vote. (The Commission will transmit its determination to the Secretary of Commerce on March 13, 2000.)

5. Outstanding action jackets:

(1.) Document No. (E)GC-00-001: Administrative matters.

In accordance with Commission policy, subject matter listed above not disposed of at the scheduled meeting may be carried over to the agenda of the following meeting.

Issued: February 25, 2000.
By order of the Commission.
Donna R. Koehnke,
Secretary.

[FR Doc. 00-5171 Filed 2-29-00; 2:25 pm]

BILLING CODE 7020-02-M